DEPARTMENT OF HOUSING AND URBAN DEVELOPMENT

[Docket No. FR-6270-N-02]

Notice of a Federal Advisory Committee Meeting: Manufactured Housing Consensus Committee

AGENCY: Office of the Assistant Secretary for Housing—Federal Housing Commissioner, Department of Housing and Urban Development (HUD).

ACTION: Notice of Federal advisory committee meetings: Manufactured Housing Consensus Committee.

SUMMARY: This notice sets forth the schedule and proposed agenda for three Manufactured Housing Consensus Committee (MHCC) teleconference meetings. The meetings are open to the public. The agenda for each meeting provides an opportunity for citizens to comment on the business before the MHCC.

DATES:

• The first MHCC meeting will be held on Thursday, September 23, 2021, 10:00 a.m. to 4:00 p.m. Eastern Standard Time (EST).

• The second MHCC meeting will be held on Friday, October 8, 2021, 10:00 a.m. to 4:00 p.m. Eastern Standard Time (EST).

• The third MHCC meeting will be held on Wednesday, October 20, 2021, 10:00 a.m. to 4:00 p.m. Eastern Standard Time (EST).

The teleconference number is: 301-715-8592 or 646-558-8656 and the Meeting ID is: 81468510702. To access the webinar, use the following link: https://us06web.zoom.us/j/81468510702.

FOR FURTHER INFORMATION CONTACT: Teresa B. Payne, Administrator, Office of Manufactured Housing Programs, Department of Housing and Urban Development, 451 7th Street SW, Room 9166, Washington, DC 20410, telephone 202-402-2698 (this is not a toll-free number). Persons who have difficulty hearing or speaking may access this number via TTY by calling the Federal Relay Service at 800-877-8339 (this is a toll-free number).

SUPPLEMENTARY INFORMATION: Notice of these meetings is provided in accordance with the Federal Advisory Committee Act, 5 U.S.C. app. 10(a)(2) through implementing regulations at 41 CFR 102-3.150. The MHCC was established by the National Manufactured Housing Construction and Safety Standards Act of 1974, 42 U.S.C. 5403(a)(3), as amended by the Manufactured Housing Improvement Act of 2000, (Pub. L. 106-569, sec. 601, et seq.). According to 42 U.S.C. 5403, as amended, the MHCC's purposes are to:

• Provide periodic recommendations to the Secretary to adopt, revise, and interpret the Federal manufactured housing construction and safety standards in accordance with this subsection;

• Provide periodic recommendations to the Secretary to adopt, revise, and interpret the procedural and enforcement regulations, including regulations specifying the permissible scope and conduct of monitoring in accordance with subsection (b); and

• Be organized and carry out its business in a manner that guarantees a fair opportunity for the expression and consideration of various positions and for public participation.

The MHCC is deemed an advisory committee not composed of Federal employees.

Public Comment: Citizens wishing to make comments on the MHCC's business must register in advance by contacting the Administering Organization (AO), Home Innovation Research Labs; Attention: Kevin Kauffman, 400 Prince Georges Blvd., Upper Marlboro, MD 20774; by emailing mhcc@homeinnovation.com; or calling 888-602-4663. With advance registration, members of the public will have an opportunity to provide written comments relative to agenda topics for the Committee's consideration. All written comments must be provided to mhcc@homeinnovation.com.

• For the September 23, 2021 MHCC teleconference, the written comments must be provided no later than September 16, 2021.

• For the October 8, 2021 MHCC teleconference, the written comments must be provided no later than October 1, 2021.

• For the October 20, 2021 MHCC teleconference, the written comments must be provided no later than October 13, 2021.

Please note, written comments submitted will not be read during the meeting, but will be provided to the MHCC members prior to the meeting. The MHCC will also provide an opportunity for oral public comments on specific matters before the MHCC at each meeting. The total amount of time for oral comments will be 30 minutes, in two 15-minute periods, with each commenter limited to two minutes to ensure pertinent Committee business is completed and all public comments can be expressed. The Committee will not respond to individual written or oral statements; however, it will take all public comments into account in its deliberations. The MHCC strives to accommodate citizen comments to the extent possible within the time constraints of the meeting agenda.

Tentative Agenda for MHCC Teleconferences

Thursday, September 23, 2021—10 a.m. to 4 p.m. ET

I. Call to Order and Roll Call

II. Opening Remarks—MHCC Chair & Designated Federal Officer (DFO)

III. Approval of draft minutes from June 10, 2021, MHCC teleconference

IV. Public Comment Period—15 minutes

V. Discussion of Department of Energy's Supplemental Notice of Proposed Rulemaking and Request for Comment—Energy Conservation Standards for Manufactured Housing

VI. Lunch from 12:30 p.m. to 1:30 p.m.

VII. Continued Discussion of Supplemental Notice of Proposed Rulemaking and Request for Comments—Energy Conservation Standards for Manufactured Housing and Prepare Comments/Answers about DOE's Questions in Rulemaking for HUD's review

VIII. Public Comment Period—15 minutes

IX. Wrap Up—DFO & AO

X. Adjourn

Friday, October 8, 2021—10 a.m. to 4 p.m. ET

I. Call to Order and Roll Call

II. Opening Remarks—MHCC Chair & Designated Federal Officer (DFO)

III. Public Comment Period—15 minutes

IV. Discussion of Department of Energy's Supplemental Notice of Proposed Rulemaking and Request for Comment—Energy Conservation Standards for Manufactured Housing and Prepare Comments/Answers about DOE's Questions in Rulemaking for HUD's review

V. Lunch from 12:30 p.m. to 1:30 p.m.

VI. Continued Discussion of Supplemental Notice of Proposed Rulemaking and Request for Comment—Energy Conservation Standards for Manufactured Housing and Prepare Comments/Answers about DOE's Questions in Rulemaking for HUD's review

VII. Public Comment Period—15 minutes

VIII. Wrap Up—DFO & AO

IX. Adjourn

Wednesday, October 20, 2021—10 a.m. to 4 p.m. ET

I. Call to Order and Roll Call

II. Opening Remarks—MHCC Chair & Designated Federal Officer (DFO)

III. Public Comment Period—15 minutes

IV. Discussion of Department of Energy's Supplemental Notice of Proposed Rulemaking and Request for Comment—Energy Conservation Standards for Manufactured Housing and Continue to Prepare Comments/Answers about DOE's Questions in Rulemaking for HUD's review

V. Lunch from 12:30 p.m. to 1:30 p.m.

VI. Continued Discussion of Supplemental Notice of Proposed Rulemaking and Request for Comments—Energy Conservation Standards for Manufactured Housing Answers about DOE's Questions in Rulemaking for HUD's review

VII. Public Comment Period—15 minutes

VIII. Wrap Up—DFO & AO

IX. Adjourn

Lopa Kolluri,
Principal Deputy Assistant, Secretary for Housing.

[FR Doc. 2021-19495 Filed 9-7-21; 8:45 am]

BILLING CODE P